FEDERAL COMMUNICATIONS COMMISSION

[DA 16-40]

Consumer Advisory Committee

AGENCY: Federal Communications Commission.

ACTION: Notice.

SUMMARY: The Commission announces the next meeting date, time, and agenda of its Consumer Advisory Committee (hereinafter the Committee). The mission of the Committee is to make recommendations to the Commission regarding consumer issues within the jurisdiction of the Commission and to facilitate the participation of consumers (including underserved populations, such as Native Americans, persons living in rural areas, older persons, people with disabilities, and persons for whom English is not their primary language) in proceedings before the Commission.

DATES: February 5, 2016, 9:00 a.m. to 4:00 p.m.

ADDRESSES: Federal Communications Commission, Commission Meeting Room TW-C305, 445 12th Street SW., Washington, DC 20554.

FOR FURTHER INFORMATION CONTACT: Scott Marshall, Consumer and Governmental Affairs Bureau, (202) 418-2809 (voice or Relay), or email Scott.Marshall@fcc.gov.

SUPPLEMENTARY INFORMATION: This is a summary of the Commission's document DA 16-40, released January 13, 2016, announcing the Agenda, Date, and Time of the Committee's Next Meeting.

Meeting Agenda

At its February 5, 2016 meeting, the Committee is expected to consider a recommendation regarding the modernization of the Lifeline program to include broadband services and to improve administration presented by its Universal Services Working Group. The Committee will receive briefings from Commission staff and/or outside speakers on issues of interest to the Committee. A limited amount of time will be available for comments from the public. If time permits, the public may ask questions of presenters via the email address livequestions@fcc.gov or via Twitter using the hashtag #fcclive. The public may also follow the meeting on Twitter@fcc or via the Commission's Facebook page at www.facebook.com/fcc. Alternatively, members of the public may send written comments to: Scott Marshall, Designated Federal Officer of the Committee at the address provided below.

The meeting is open to the public and the site is fully accessible to people using wheelchairs or other mobility aids. Sign language interpreters, open captioning, assistive listening devices, and Braille copies of the agenda and committee roster will be provided on site. Meetings of the Committee are also broadcast live with open captioning over the Internet from the FCC Live Web page at www.fcc.gov/live/. Other reasonable accommodations for people with disabilities are available upon request. The request should include a detailed description of the accommodation needed and contact information. Please provide as much advance notice as possible; last minute requests will be accepted, but may not be possible to fill. To request an accommodation, send an email to fcc504@fcc.gov or call the Consumer and Governmental Affairs Bureau at 202-418-0530 (voice), 202-418-0432 (TTY).

Federal Communications Commission.
Alison Kutler,
Acting Chief, Consumer and Governmental Affairs Bureau.

[FR Doc. 2016-01157 Filed 1-20-16; 8:45 am]

BILLING CODE 6712-01-P